DEPARTMENT OF JUSTICE

Notice of Lodging of Proposed Consent Decree under the Clean Air Act

On January 24, 2023, the Department of Justice lodged a proposed Consent Decree with the United States District Court for the District of Delaware in the lawsuit entitled United States v. Genesee & Wyoming Railroad Services, Inc., et a., Civil Action No. 1:23-cv-00084-UNA.

The Complaint alleges claims for penalties and injunctive relief under the Clean Air Act, 42 U.S.C. 7413, arising from Defendants' non-compliance with regulations pertaining to locomotives promulgated by the Environmental Protection Agency. The proposed Consent Decree resolves these claims and requires Defendants and affiliated non-defendants who also own and operate locomotives to pay a penalty of $1,350,000, undertake various actions to facilitate their compliance with applicable locomotive regulations, and remove eighty-eight older and high emission locomotives from service to mitigate the harm caused by their violations.

The publication of this notice opens a period for public comment on the Consent Decree. Comments should be addressed to the Assistant Attorney General, Environment and Natural Resources Division, and should refer to United States v. Genesee & Wyoming Railroad Services, Inc., et al. D.J. Ref. No. 90-5-2-1-12479. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.25 (25 cents per page reproduction cost) payable to the United States Treasury.

Patricia McKenna,
Assistant Section Chief, Environmental Enforcement Section, Environment and Natural Resources Division.

[FR Doc. 2023-01792 Filed 1-27-23; 8:45 am]

BILLING CODE 4410-15-P